DEPARTMENT OF COMMERCE

National Oceanic and Atmospheric Administration

RIN 0648-XC483

North Pacific Fishery Management Council; Public Meeting

AGENCY: National Marine Fisheries Service (NMFS), National Oceanic and Atmospheric Administration (NOAA), Commerce.

ACTION: Notice of a public workshop.

SUMMARY: The North Pacific Fishery Management Council (NPFMC) will hold a Crab Assessment Workshop.

DATES: The meeting will be held on February 26-March 1, 2013, from 9 a.m. to 5 p.m.

ADDRESSES: The meeting will be held at the Hilton Hotel, Birch/Willow room, 500 West 3rd Avenue, Anchorage, AK.

Council address: North Pacific Fishery Management Council, 605 W. 4th Avenue, Suite 306, Anchorage, Alaska 99501-2252.

FOR FURTHER INFORMATION CONTACT: Diana Stram; telephone: (907) 271-2809.

SUPPLEMENTARY INFORMATION: The workshop meeting agenda includes: review and make recommendations on developing stock assessment models for Aleutian Islands golden king crab and Norton Sound red king crab.

The Agenda is subject to change, and the latest version will be posted at http://www.alaskafisheries.noaa.gov/npfmc/.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations:

These meetings are physically accessible to people with disabilities. Requests for sign language interpretation or other auxiliary aids should be directed to Gail Bendixen at (907) 271-2809 at least 7 working days prior to the meeting date.

Dated: January 30, 2013.
Tracey L. Thompson,
Acting Deputy Director, Office of Sustainable Fisheries, National Marine Fisheries Service.

[FR Doc. 2013-02419 Filed 2-4-13; 8:45 am]

BILLING CODE 3510-22-P